COMMITTEE FOR THE IMPLEMENTATION OF TEXTILE AGREEMENTS

Provisions for Delays of Textile Visas or Exempt Certificates Due to the Recent National Emergency

September 19, 2001.

AGENCY: Committee for the Implementation of Textile Agreements (CITA).

ACTION: Issuing a directive to the Commissioner of Customs making provisions for delays in textile visas or exempt certificates due to the recent national emergency

EFFECTIVE DATE: September 11, 2001.

FOR FURTHER INFORMATION CONTACT: Brian F. Fennessy, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

In light of the recent national emergency, some textile visas or exempt certificates may be delayed in reaching their destination; visas are often delivered by courier services that have been disrupted by these events. As a result, CITA has determined that copies of visas and exempt certificates shall be accepted for conditional release of merchandise for a limited period of time.

In the letter published below, the Chairman of CITA directs the Commissioner of Customs, with respect to all textiles and textile product subject to visa requirements entered on or after September 11, 2001 but prior to September 29, 2001, to accept copies of textile visas or exempt certificates for the conditional release of merchandise. The original textile visa or exempt certificate must be presented to the U.S. Customs Service upon receipt and no later than October 12, 2001. Effective for textiles and textile products entered on or after September 29, 2001, original textile visas will be required. U.S. Customs should continue to require an Electronic Visa Information System (ELVIS) transmission for all shipments for which an ELVIS transmission is required.

Absent submission of the original textile visa or exempt certificate on or before October 12, 2001, the goods will be deemed inadmissible.

D. Michael Hutchinson,
Acting Chairman, Committee for Implementation of Textile Agreements

Committee for the Implementation of Textile Agreements

September 19, 2001.

Commissioner of Customs,

Department of the Treasury, Washington, DC 20229.

Charles W. Winwood

Acting Commissioner

U.S. Customs Service

1300 Pennsylvania Avenue, NW

Washington, DC 20229

Dear Mr. Commissioner:

In light of the recent national emergency, some textile visas or exempt certificates may be delayed in reaching their destination; visas are often delivered by courier services that have been disrupted by these events. As a result, CITA has determined that copies of visas and exempt certificates shall be accepted for conditional release of merchandise for a limited period of time.

CITA directs that, with respect to all textiles and textile product subject to visa requirements entered on or after September 11, 2001 but prior to September 29, 2001, the United States Customs Service shall accept copies of textile visas or exempt certificates for the conditional release of merchandise. The original textile visa or exempt certificate must be presented to the U.S. Customs Service upon receipt and no later than October 12, 2001. Effective for textiles and textile products entered on or after September 29, 2001, original textile visas will be required. U.S. Customs should continue to require an Electronic Visa Information System (ELVIS) transmission for all shipments for which an ELVIS transmission is required.

Absent submission of the original textile visa or exempt certificate on or before October 12, 2001, the goods will be deemed inadmissible.

Sincerely,

D. Michael Hutchinson,

Acting Chairman, Committee for Implementation of Textile Agreements.

[FR Doc. 01-23847 Filed 9-20-01; 9:57 am]

BILLING CODE 3510-DR-S